ENVIRONMENTAL PROTECTION AGENCY

40 CFR Part 63

[EPA-HQ-OAR-2005-0155; FRL-8547-4]

RIN 2060-AO52

National Perchloroethylene Air Emission Standards for Dry Cleaning Facilities

AGENCY: Environmental Protection Agency (EPA).

ACTION: Direct final rule.

SUMMARY: EPA is taking direct final action on amendments to the national perchloroethylene air emission standards for dry cleaning facilities promulgated on July 27, 2006, under the authority of section 112 of the Clean Air Act. This action amends rule language to correct applicability cross references that were not correctly amended between the most recent proposed and final rule revisions, and to clarify that condenser performance monitoring may be done by either of two prescribed methods (pressure or temperature), regardless of whether an installed pressure gauge is present. Without these amendments, new area sources could erroneously be required to perform monitoring that was proposed for only major sources, and installed condenser performance gauge readings could be required of sources when a prescribed temperature method is just as valid for compliance purposes.

DATES: This rule is effective on July 15, 2008 without further notice, unless EPA receives adverse comment by May 16, 2008. If EPA receives adverse comment, we will publish a timely withdrawal in the Federal Register informing the public that some or all of the amendments in this rule will not take effect.

ADDRESSES: Submit your comments, identified by Docket ID No. EPA-HQ-OAR-2005-0155 by one of the following methods:

1. www.regulations.gov: Follow the on-line instructions for submitting comments.

2. E-mail: a-and-r-docket@epa.gov and johnson.warren@epa.gov.

3. Facsimile: (202) 566-9744 and (919) 541-3470.

4. Mail: U.S. Postal Service, send comments to: Air and Radiation Docket, Environmental Protection Agency, Mailcode: 6102T, 1200 Pennsylvania Ave., NW., Washington, DC 20460. Please include a total of two copies.

5. Hand Delivery: Deliver in person, or by courier deliveries to: EPA Docket Center, Public Reading Room, EPA West, Room 3334, 1301 Constitution Ave., NW., Washington, DC 20460. Such deliveries are only accepted during the Docket's normal hours of operation, and special arrangements should be made for deliveries of boxed information.

We request that a separate copy also be sent to the contact person listed below (see FOR FURTHER INFORMATION CONTACT).

Instructions: Direct your comments to Docket ID No. EPA-HQ-OAR-2005-0155. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Unit III of the SUPPLEMENTARY INFORMATION section of this document.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the National Emission Standards for Hazardous Air Pollutants for Four Area Source Categories Docket, EPA/DC, EPA West, Room 3334, 1301 Constitution Ave., NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: Mr. Warren Johnson, Sector Policies and Programs Division, Office of Air Quality Planning and Standards (E143-03), Environmental Protection Agency, Research Triangle Park, NC 27711, telephone number (919) 541-5124, electronic mail address Johnson.warren@epa.gov.

SUPPLEMENTARY INFORMATION: The information presented in this preamble is organized as follows:

I. Why is EPA using a direct final rule?

II. Does this action apply to me?

III. What should I consider as I prepare my comments to EPA?

IV. Where can I get a copy of this document?

V. Why are we amending the rule?

VI. What amendments are we making to the rule?

VII. Statutory and Executive Order Reviews

A. Executive Order 12866: Regulatory Planning and Review

B. Paperwork Reduction Act

C. Regulatory Flexibility Act

D. Unfunded Mandates Reform Act

E. Executive Order 13132: Federalism

F. Executive Order 13175: Consultation and Coordination With Indian Tribal Governments

G. Executive Order 13045: Protection of Children From Environmental Health and Safety Risks

H. Executive Order 13211: Actions Concerning Regulations That Significantly Affect Energy Supply, Distribution, or Use

I. National Technology Transfer Advancement Act

J. Executive Order 12898: Federal Actions To Address Environmental Justice in Minority Populations and Low-Income Populations

K. Congressional Review Act

I. Why is EPA using a direct final rule?

EPA is publishing the rule without a prior proposed rule because we view this as a noncontroversial action and anticipate no adverse comment. As explained below, this action amends rule language to clarify that colorimetric monitoring requirements were not intended for new dry cleaning machines installed at area sources after December 21, 2005, and to clarify that condenser performance monitoring may be done by either of the prescribed methods (pressure or temperature), regardless of whether or not an installed pressure gauge is present.

Without these amendments, the rule can be interpreted as requiring:

(1) New dry cleaning machines installed at area sources after December 21, 2005, to perform colorimetric monitoring; and,

(2) Sources with installed condenser performance gauges to take readings, when a prescribed temperature method is just as valid for compliance purposes.

Either of these interpretations is problematic since neither was reflected in the proposed rule (70 FR 75884), nor did our notice of final rulemaking explain why or how the regulatory text changed from proposal to final promulgation to include such requirements.

However, in the “Proposed Rules” section of today's Federal Register, we are publishing a separate document that will serve as the proposed rule to amend the National Perchloroethylene Air Emission Standards for Dry Cleaning Facilities (40 CFR part 63, subpart M) if adverse comments are received on this direct final rule. If we receive adverse comment, we will publish a timely withdrawal in the Federal Register informing the public that some or all of the amendments in this rule will not take effect, and we will address all public comments received on the proposed rule in a subsequent final rule. We will not institute a second comment period on the proposed rule. Any parties interested in commenting on the proposed rule must do so at this time. For further information about commenting on the rule, see the ADDRESSES section of this document.

II. Does this action apply to me?

The categories and entities potentially regulated by this direct final rule are industrial and commercial perchloroethylene (PCE) dry cleaners. The direct final rule affects the following categories of sources:

Category | NAICS ¹ code | Examples of potentially regulated entities
Coin-operated Laundries and Dry Cleaners | 812310 | Dry-to-dry machines. Transfer machines.
Dry Cleaning and Laundry Services (except coin-operated) | 812320 | Dry-to-dry machines. Transfer machines.
Industrial Launderers | 812332 | Dry-to-dry machines. Transfer machines.
¹ North American Industry Classification System.

III. What should I consider as I prepare my comments to EPA?

Do not submit information containing CBI to EPA through www.regulations.gov or e-mail. Send or deliver information identified as CBI only to the following address: Roberto Morales, OAQPS Document Control Officer (C404-02), Office of Air Quality Planning and Standards, Environmental Protection Agency, Research Triangle Park, North Carolina 27711, Attention: Docket ID No. EPA-HQ-OAR-2005-0155. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

IV. Where can I get a copy of this document?

In addition to being available in the docket, an electronic copy of this final action will also be available on the Worldwide Web (WWW) through the Technology Transfer Network (TTN). Following signature, a copy of this final action will be posted on the TTN's policy and guidance page for newly proposed or promulgated rules at the following address: http://www.epa.gov/ttn/oarpg/. The TTN provides information and technology exchange in various areas of air pollution control.

V. Why are we amending the rule?

On September 22, 1993, EPA promulgated National Perchloroethylene Air Emission Standards for Dry Cleaning Facilities (58 FR 49376). These standards are codified at 40 CFR part 63, subpart M. On December 21, 2005, EPA proposed revisions to the National Perchloroethylene Air Emission Standards for Dry Cleaning Facilities (70 FR 75884) which included proposed provisions in 40 CFR 63.322(o)(2) that would have required owners or operators of a dry cleaning system at any major source to route the air-perchloroethylene gas-vapor stream contained within each dry cleaning machine through a refrigerated condenser and a carbon adsorber or equivalent control device immediately before or as the door of the dry cleaning machine is opened. Proposed § 63.322(o)(3) would have required owners and operators of dry cleaning systems installed after December 21, 2005, at area sources to meet similar requirements. In proposed § 63.323(b) and (c), the requirement to use a colorimetric detector tube or perchloroethylene gas analyzer would have applied to carbon adsorbers used to comply with proposed § 63.323(o)(2) (i.e., at major sources), but not to those used to comply with proposed § 63.322(o)(3) (i.e., at dry cleaning systems installed at area sources after December 21, 2005). In addition, proposed § 63.324(d)(6) would have imposed reporting and recordkeeping requirements for monitoring results where carbon adsorbers are used to meet proposed § 63.322(o)(2), but not to meet proposed § 63.322(o)(3).

In addition, proposed § 63.322(o)(4) would have prohibited any emissions of perchloroethylene during the transfer of articles between the washer and the dryer(s) or reclaimer(s) of any dry cleaning system, including at systems that are eligible for the limited exemptions from other requirements under proposed revised § 63.320(d) and (e).

On July 27, 2006, EPA promulgated final revisions to the National Perchloroethylene Air Emission Standards for Dry Cleaning Facilities (71 FR 42724) and, in response to comments, removed the proposed provisions in § 63.322(o)(2) for owners or operators of a dry cleaning system at any major source. The provisions in proposed § 63.322(o)(3) for area source systems installed after December 21, 2005, were then moved into § 63.322(o)(2) as we renumbered the section paragraphs. However, we failed to properly amend the cross references in §§ 63.323(b) and (c) and 63.324(d)(6) to § 63.322(o)(2), and thus inadvertently caused the colorimetric monitoring provisions and the recordkeeping and reporting provisions proposed for major sources to appear to apply to new systems installed after December 21, 2005, at area sources. Moreover, the proposed prohibition on perchloroethylene emissions during transfer moved from proposed § 63.322(o)(4) to final § 63.322(o)(3), and this renumbering of the paragraphs in § 63.322(o) was not tracked in the cross references in the final rule's applicability and exemption § 63.320(d) and (e). Hence, this direct final action makes appropriate amendments to the cross references in applicability § 63.320(d) and (e), and removes the cross references in §§ 63.323(b) and (c) and 63.324(d)(6) to § 63.322(o)(2).

Without cross reference corrections to the final rule, the rule cannot be implemented properly. For example, as a result of improper applicability cross referencing, colorimetric monitoring requirements would appear to be required of dry cleaning systems installed at area sources after December 21, 2005. This was not our intent and was not contained in the proposed rule. Neither is it supported by our impacts analysis or by public comments received on the proposal, nor is it explained or justified in the preamble or response to comments document supporting the final rule. Moreover, without these corrections, sources eligible for the limited exemptions under § 63.320(d) and (e) would appear to be also exempt from the universal prohibition proposed and promulgated regarding perchloroethylene emissions during transfers, even though this inadvertent change from the proposal was also not supported by any explanation in our final rulemaking.

In addition, while we did not propose changes to the test methods and monitoring requirements of § 63.323(a) in the December 21, 2005, proposal, we nonetheless amended this section in response to comments. In doing so, we stated in the preamble to the final rule that installed pressure gauge monitoring was a preferred method for monitoring condenser performance, and amended § 63.323(a) to include these monitoring provisions. As written, however, § 63.323(a) now states that only systems that are not equipped with refrigeration system pressure gauges may exercise the option of monitoring temperature, which has created a problem for operators whose installed pressure gauges are not operating properly. While we still believe that installed pressure gauges are a preferred monitoring method for most cases, we also recognize that either method is acceptable to demonstrate condenser compliance, regardless of whether or not a particular system is equipped with refrigeration system pressure gauges. This direct final action makes appropriate amendments to §§ 63.323(a) and 63.324(d) in order to allow owners or operators to monitor either pressure or temperature to demonstrate refrigerated condenser compliance, regardless of whether or not their system is equipped with refrigeration system pressure gauges.

Without amendments to the refrigerated condenser monitoring provisions, the final rule implies that systems equipped with refrigeration system pressure gauges would not have the option to monitor temperature. This was not our intent.

Finally, in § 63.322(o)(5)(i) of the final rule we promulgated a December 21, 2020, phase-out date for all PCE emissions from dry cleaning systems located in a building with a residence. This phase-out was intended to apply universally, without being subject to the limited exemptions provided by § 63.320(d), which grants limited relief for existing dry-to-dry machines and ancillary equipment at facilities with total annual PCE use of less than 530 liters (140 gallons). However, in promulgating amendments to § 63.320(d) in the final rule, we inadvertently cross-referenced the promulgated immediate prohibition of PCE emissions from new dry cleaning systems installed after December 21, 2005, in buildings with a residence, even though such new systems are not addressed by § 63.320(d). We are correcting this cross-referencing error, as necessary to avoid appearing to subject existing § 63.320(d)-eligible sources located in buildings with a residence to an immediate prohibition of PCE emissions, and to apply the same December 21, 2020 phase-out date that applies to all other existing co-residential sources.

VI. What amendments are we making to the rule?

As currently written, 40 CFR 63.323(b) and (c) require owners or operators of dry cleaning machines using carbon adsorbers to comply with §§ 63.322(a)(2), 63.322(b)(3) and 63.322(o)(2) to conduct colorimetric monitoring. Prior to the July 27, 2006, revisions, these requirements only applied, under § 63.322(b)(3), to new dry cleaning machines at a major sources installed after December 9, 1991, equipped with a closed-loop system with a refrigerated condenser and a carbon adsorber, and, under § 63.322(a)(2), to existing dry cleaning machines with a carbon adsorber installed as an alternative to a refrigerated condenser prior to September 22, 1993. Following the July 27, 2006 revisions, though, due to our inadvertent errors in tracking cross-references as changes in the rule were made from the proposed rule to the final rule revisions, it could be interpreted that these requirements now apply to all new dry cleaning systems installed after December 21, 2005, at area sources, which was neither proposed nor the EPA's intent. To remedy this, we are removing the references in § 63.323(b) and (c) to § 63.322(o)(2).

In addition, due to the July 27, 2006, revisions to 40 CFR 63.323(a), one could interpret that using the monitoring method in 40 CFR 63.323(a)(2)(ii) is only an option when the dry cleaning machine is not equipped with refrigeration system pressure gauges. Our intent was to allow either the method in 40 CFR 63.323(a)(1)(i), which uses pressure gauge readings, or in 40 CFR 63.323(a)(1)(ii), which uses temperature sensors, at the owner/operator's discretion. We recognized that the method in 40 CFR 63.323(a)(1)(i), which uses pressure gauge readings, requires that a machine be equipped with refrigeration system pressure gauges, but we did not intend that the presence or absence of such gauges would dictate which of these two methods could be used for compliance. To remedy this, we are amending 40 CFR 63.323(a) by removing the phrase “If the machine is not equipped with refrigeration system pressure gauges” as a condition for using the temperature method in 40 CFR 63.323(a)(1)(ii). We are also amending the recordkeeping requirements in 40 CFR 63.324(d), to reflect this 40 CFR 63.323(a) amendment, by replacing the phrase “temperature sensor monitoring results” with “monitoring results (temperature sensor or pressure gauge).”

Finally, in order to remedy applicability section tracking inconsistency with the renumbering of paragraphs in § 63.322 between the most recent proposed and final revisions, we are amending the cross-references in the applicability § 63.320(d) and (e) to appropriately refer to § 63.322(o)(3) where they currently refer to § 63.322(o)(4).

VII. Statutory and Executive Order Reviews

A. Executive Order 12866: Regulatory Planning and Review

This action is not a “significant regulatory action” under the terms of Executive Order (EO) 12866 (58 FR 51735, October 4, 1993) and is therefore not subject to the review under the EO.

B. Paperwork Reduction Act

This action does not impose any new information collection burden. The rule requires enhanced LDAR program that requires a handheld portable monitor. Major source facilities will purchase a PCE gas analyzer and area sources will purchase a halogenated hydrocarbon leak detector. Owners and operators will incur the capital/startup cost of purchasing the monitors, plus ongoing annual operation and maintenance costs. No new information collection is required as part of these amendments; owners and operators will continue to keep records and submit required reports to EPA or the delegated State regulatory authority required in the final rule. However, the Office of Management and Budget (OMB) has previously approved the information collection requirements contained in the existing regulations (40 CFR 63 subpart M) under the provisions of the Paperwork Reduction Act 44 U.S.C. 3501 et seq. and has assigned OMB control number 2060-0234. The OMB control number for EPA's regulations in 40 CFR are listed in 40 CFR part 9.

C. Regulatory Flexibility Act

The Regulatory Flexibility Act (RFA) generally requires an agency to prepare a regulatory flexibility analysis of any rule subject to notice and comment rulemaking requirements under the Administrative Procedure Act or any other statute unless the Agency certifies that the rule will not have a significant economic impact on a substantial number of small entities. Small entities include small businesses, small organizations, and small governmental jurisdictions.

For purposes of assessing the impacts of the direct final rule on small entities, a small entity is defined as:

(1) A small business as defined by the Small Business Administration's (SBA) regulations at 13 CFR 121.201;

(2) a small governmental jurisdiction that is a government of a city, county, town, school district or special district with a population of less than 50,000; and (3) a small organization that is any not-for-profit enterprise which is independently owned and operated and is not dominant in its field.

After considering the economic impacts of this rule on small entities, I certify that this action will not have a significant economic impact on a substantial number of small entities. This direct final rule will not impose any new requirements on small entities.

D. Unfunded Mandates Reform Act

Title II of the Unfunded Mandates Reform Act of 1995 (UMRA), Public Law 104-4, establishes requirements for federal agencies to assess the effects of their regulatory actions on state, local, and tribal governments and the private sector. Under section 202 of the UMRA, EPA generally must prepare a written statement, including a cost-benefit analysis, for proposed and final rules with federal mandates that may result in expenditures to State, local, and tribal governments, in the aggregate, or by the private sector, of $100 million or more in any one year. Before promulgating an EPA rule for which a written statement is needed, section 205 of the UMRA generally requires EPA to identify and consider a reasonable number of regulatory alternatives and adopt the least-costly, most cost-effective, or least burdensome alternative that achieves the objectives of the rule. The provisions of section 205 do not apply when they are inconsistent with applicable law. Moreover, section 205 allows the EPA to adopt an alternative other than the least-costly, most cost effective, or least-burdensome alternative if the Administrator publishes with the final rule an explanation why that alternative was not adopted. Before EPA establishes any regulatory requirements that may significantly or uniquely affect small governments, including tribal governments, it must have developed under section 203 of the UMRA a small government agency plan. The plan must provide for notifying potentially affected small governments, enabling officials of affected small governments to have meaningful and timely input in the development of EPA regulatory proposals with significant federal intergovernmental mandates, and informing, educating, and advising small governments on compliance with the regulatory requirements.

EPA has determined that this direct final rule does not contain a federal mandate that may result in expenditures of $100 million or more for state, local, and tribal governments, in the aggregate, or the private sector in any one year. Therefore, the direct final rule is not subject to the requirements of sections 202 and 205 of the UMRA. In addition, EPA has determined that this direct final rule contains no regulatory requirements that might significantly or uniquely affect small governments because the burden is small and the regulation does not apply to small governments. Therefore, this direct final rule is not subject to the requirements of section 203 of the UMRA.

E. Executive Order 13132: Federalism

Executive Order (EO) 13132 (64 FR 43255, August 10, 1999) requires EPA to develop an accountable process to ensure “meaningful and timely input by state and local officials in the development of regulatory policies that have Federalism implications.” “Policies that have Federalism implications” is defined in the EO to include regulations that have substantial direct effects on the states, on the relationship between the national government and the states, or on the distribution of power and responsibilities among the various levels of government.”

This direct final rule does not have federalism implications. It will not have substantial direct effects on the states, on the relationship between the national government and the States, or on the distribution of power and responsibilities among the various levels of government, as specified in EO 13132. Thus, EO 13132 does not apply to this rule.

F. Executive Order 13175: Consultation and Coordination With Indian Tribal Governments

Executive Order (EO) 13175 (65 FR 67249, November 9, 2000) requires EPA to develop an accountable process to ensure “meaningful and timely input by tribal officials in the development of regulatory policies that have tribal implications.” The direct final rule does not have tribal implications, as specified in EO 13175. This rule will not have substantial direct effects on tribal governments, on the relationship between the Federal Government and Indian tribes, or on the distribution of power and responsibilities between the Federal Government and Indian tribes, as specified in EO 13175. Thus, EO 13175 does not apply to this direct final rule.

G. Executive Order 13045: Protection of Children From Environmental Health and Safety Risks

EPA interprets EO 13045 (62 FR 19885, April 23, 1997) as applying only to those regulatory actions that concern health or safety risks, such that the analysis required under section 5-501 of the Order has the potential to influence the regulation. This action is not subject to EO 13045 because it is based solely on technology performance.

H. Executive Order 13211: Actions Concerning Regulations That Significantly Affect Energy Supply, Distribution, or Use

This rule is not subject to Executive Order (EO) 13211, “Actions Concerning Regulations That Significantly Affect Energy Supply, Distribution, or Use” (66 FR 28355 (May 22, 2001)) because it is not a significant regulatory action under EO 12866.

I. National Technology Transfer and Advancement Act

Section 12(d) of the National Technology Transfer and Advancement Act of 1995 (NTTAA), Public Law 104-113, 12(d) (15 U.S.C. 272 note), directs the EPA to use voluntary consensus standards in its regulatory activities unless to do so would be inconsistent with applicable law or otherwise impractical. Voluntary consensus standards are technical standards (e.g., materials specifications, test methods, sampling procedures, and business practices) that are developed or adopted by voluntary consensus standards bodies. NTTAA directs EPA to provide Congress, through OMB, explanations when the Agency decides not to use available and applicable voluntary consensus standards.

This action does not involve technical standards. Therefore, EPA did not consider the use of any voluntary consensus standards.

J. Executive Order 12898: Federal Actions To Address Environmental Justice in Minority Populations and Low-Income Populations

Executive Order 12898 (59 FR 7629, February 16, 1994) establishes Federal executive policy on environmental justice. Its main provision directs Federal agencies, to the greatest extent practicable and permitted by law, to make environmental justice part of their mission by identifying and addressing, as appropriate, disproportionately high and adverse human health or environmental effects of their programs, policies, and activities on minority populations and low-income populations in the United States.

EPA has determined that this direct final rule will not have disproportionately high and adverse human health or environmental effects on minority or low income populations because it does not affect the level of protection provided to human health or the environment. Moreover, the technical and editorial corrections in this direct final rule do not change the level of control required by the National Perchloroethylene Air Emission Standards for Dry Cleaning Facilities.

K. Congressional Review Act

The Congressional Review Act, 5 U.S.C. 801 et seq., as added by the Small Business Regulatory Enforcement Fairness Act of 1996, generally provides that before a rule may take effect, the agency promulgating the rule must submit a rule report, which includes a copy of the rule, to each house of the Congress and to the Comptroller General of the United States. EPA will submit a report containing this direct final rule and other required information to the U.S. Senate, the U.S. House of Representatives, and the Comptroller General of the United States prior to publication of this direct final rule in the Federal Register. A Major rule cannot take effect until 60 days after it is published in the Federal Register. This action is not a “major rule” as defined by 5 U.S.C. 804(2). This rule will be effective July 15, 2008.

List of Subjects in 40 CFR Part 63

Environmental protection, Administrative practice and procedure, Air pollution control, Hazardous substances, Intergovernmental relations, Reporting and recordkeeping requirements.

Dated: March 20, 2008.
Stephen L. Johnson,
Administrator.

For the reasons set out in the preamble, title 40, chapter I, part 63, of the Code of Federal Regulations is amended as follows:

PART 63—[AMENDED]

1. The authority citation for part 63 continues to read as follows:

Authority: 42 U.S.C. 7401, et seq.

Subpart M—[Amended]

2. Section 63.320 is amended by revising paragraphs (d) and (e) to read as follows:

§ 63.320 Applicability.

* * * * *

(d) Each existing dry-to-dry machine and its ancillary equipment located in a dry cleaning facility that includes only dry-to-dry machines, and each existing transfer machine system and its ancillary equipment, and each new transfer machine system and its ancillary equipment installed between December 9, 1991, and September 22, 1993, as well as each existing dry-to-dry machine and its ancillary equipment, located in a dry cleaning facility that includes both transfer machine system(s) and dry-to-dry machine(s) is exempt from §§ 63.322, 63.323, and 63.324, except §§ 63.322(c), (d), (i), (j), (k), (l), (m), (o)(1), (o)(3) and (o)(5)(i); 63.323(d); and 63.324 (a), (b), (d)(1), (d)(2), (d)(3), (d)(4), and (e) if the total PCE consumption of the dry cleaning facility is less than 530 liters (140 gallons) per year. Consumption is determined according to § 63.323(d).

(e) Each existing transfer machine system and its ancillary equipment, and each new transfer machine system and its ancillary equipment installed between December 9, 1991, and September 22, 1993, located in a dry cleaning facility that includes only transfer machine system(s), is exempt from §§ 63.322, 63.323, and 63.324, except §§ 63.322(c), (d), (i), (j), (k), (l), (m), (o)(1), and (o)(3); 63.323(d); and 63.324 (a), (b), (d)(1), (d)(2), (d)(3), (d)(4), and (e) if the PCE consumption of the dry cleaning facility is less than 760 liters (200 gallons) per year. Consumption is determined according to § 63.323(d).

* * * * *

3. Section 63.323 is amended as follows:

a. By revising paragraphs (a)(1) introductory text and (a)(1)(ii).

b. By revising paragraph (b) introductory text.

c. By revising paragraph (c) introductory text.

§ 63.323 Test methods and monitoring.

(a) * * *

(1) The owner or operator shall monitor on a weekly basis the parameters in either paragraph (a)(1)(i) or (ii) of this section.

* * * * *

(ii) The temperature of the air-perchloroethylene gas-vapor stream on the outlet side of the refrigerated condenser on a dry-to-dry machine, dryer, or reclaimer with a temperature sensor to determine if it is equal to or less than 7.2 °C (45 °F) before the end of the cool-down or drying cycle while the gas-vapor stream is flowing through the condenser. The temperature sensor shall be used according to the manufacturer's instructions and shall be designed to measure a temperature of 7.2 °C (45 °F) to an accuracy of ±1.1 °C (±2 °F).

* * * * *

(b) When a carbon adsorber is used to comply with § 63.322(a)(2) or exhaust is passed through a carbon adsorber immediately upon machine door opening to comply with § 63.322(b)(3), the owner or operator shall measure the concentration of PCE in the exhaust of the carbon adsorber weekly with a colorimetric detector tube or PCE gas analyzer. The measurement shall be taken while the dry cleaning machine is venting to that carbon adsorber at the end of the last dry cleaning cycle prior to desorption of that carbon adsorber or removal of the activated carbon to determine that the PCE concentration in the exhaust is equal to or less than 100 parts per million by volume. The owner or operator shall:

* * * * *

(c) If the air-PCE gas vapor stream is passed through a carbon adsorber prior to machine door opening to comply with § 63.322(b)(3), the owner or operator of an affected facility shall measure the concentration of PCE in the dry cleaning machine drum at the end of the dry cleaning cycle weekly with a colorimetric detector tube or PCE gas analyzer to determine that the PCE concentration is equal to or less than 300 parts per million by volume. The owner or operator shall:

* * * * *

4. Section 63.324 is amended by revising paragraphs (d)(5), and (d)(6) to read as follows:

§ 63.324 Reporting and recordkeeping requirements.

* * * * *

(d) * * *

(5) The date and monitoring results (temperature sensor or pressure gauge), as specified in § 63.323 if a refrigerated condenser is used to comply with § 63.322(a), (b), or (o); and

(6) The date and monitoring results, as specified in § 63.323, if a carbon adsorber is used to comply with § 63.322(a)(2), or (b)(3).

* * * * *

[FR Doc. E8-6544 Filed 3-31-08; 8:45 am]

BILLING CODE 6560-50-P